COMMITTEE FOR PURCHASE FROM PEOPLE WHO ARE BLIND OR SEVERELY DISABLED

Procurement List; Additions

AGENCY: Committee for Purchase From People Who Are Blind or Severely Disabled.

ACTION: Additions to the procurement list.

SUMMARY: This action adds to the Procurement List services to be furnished by nonprofit agencies employing persons who are blind or have other severe disabilities.

EFFECTIVE DATE: August 13, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot, (703) 603-7740.

SUPPLEMENTARY INFORMATION: On March 2, March 9, May 18 and May 25, 2001, the Committee for Purchase From People Who Are Blind or Severely Disabled published notices (66 FR 13041, 14123, 27627 and 28889) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the services to the Government.

2. The action will not have a severe economic impact on current contractors for the services.

3. The action will result in authorizing small entities to furnish the services to the Government.

4. There are no known regulatory alternatives which would accomplish the objectives of the Javits-Wagner-O'Day Act (41 U.S.C. 46-48c) in connection with the services proposed for addition to the Procurement List.

Accordingly, the following services are hereby added to the Procurement List:

Services

Central Facility Management

Social Security Administration, Trust Fund Building, Chambersburg, Pennsylvania

Food Service Attendant

Hickam Air Force Base, Hawaii

Janitorial/Custodial

Naval & Marine Corps Reserve Center (NMCRC), 1201 N. 35th Avenue, Phoenix, Arizona

Janitorial/Custodial

Bombay Hook National Wildlife Refuge Smyrna, Delaware

Janitorial/Custodial

At the following U.S. Army Reserve Center Locations:

Brandt Memorial USARC, Baltimore, Maryland

Fleming Goodwin USARC, Dover, Delaware

Cape Henlopen USARC, Lewes, Delaware

Annapolis USARC, Annapolis, Maryland

Sheridan USARC, Baltimore, Maryland

Jachman USARC, Owings Mills, Maryland

AMSA 83 Curtis Bay, Baltimore, Maryland

Jecelin USARC, Baltimore, Maryland

Janitorial/Custodial

U.S. Fish & Wildlife Service, Bosque del Apache National Wildlife Refuge, Socorro, New Mexico

Janitorial/Custodial

St. John's Border Station Route 9B, New York

Janitorial/Custodial

Naval and Marine Corps Reserve Center, Milwaukee, Wisconsin

Provision of Customized Recognition & Awards Program

50% of the Governments Requirement

This action does not affect current contracts awarded prior to the effective date of this addition or options that may be exercised under those contracts.

Louis R. Bartalot,
Director, Program Analysis and Evaluation.

[FR Doc. 01-17609 Filed 7-12-01; 8:45 am]

BILLING CODE 6353-01-P